DEPARTMENT OF HEALTH AND HUMAN SERVICES

Substance Abuse and Mental Health Services Administration

Center for Substance Abuse Prevention; Notice of Meeting

Pursuant to Public Law 92-463, notice is hereby given that the Substance Abuse and Mental Health Services Administration's (SAMHSA) Center for Substance Abuse Prevention (CSAP) Drug Testing Advisory Board (DTAB) will meet on January 31 and February 1, 2012. The DTAB will convene in both open and closed sessions over these two days.

On January 31, 2012 from 9 a.m. to 3 p.m. EST, the meeting will be open to the public to discuss the science of synthetic opioids as potential analytes in the Mandatory Guidelines for Federal Workplace Drug Testing Programs.

The public is invited to attend the open session in person or to listen via teleconference. Due to the limited seating space and call-in capacity, registration is requested. Public comments are welcome. To register, make arrangements to attend, obtain the teleconference call-in numbers and access codes, submit written or brief oral comments, or request special accommodations for persons with disabilities, please register at the SAMHSA Advisory Committees' Web site at http://nac.samhsa.gov/Registration/meetingsRegistration.aspx or contact the CSAP DTAB Designated Federal Official, Dr. Janine Denis Cook (see contact information below).

On January 31, 2012 between 3 p.m.-5 p.m. EST and February 1, 2012 between 8:30 a.m. and 1 p.m. EST, the Board will meet in closed session to discuss proposed revisions to the Mandatory Guidelines for Federal Workplace Drug Testing Programs. This portion of the meeting is closed to the public as determined by the Administrator, SAMHSA, in accordance with 5 U.S.C. 552b(c)(9)(B) and 5 U.S.C. App. 2, Section 10(d).

Substantive program information, a summary of the meeting, and a roster of DTAB members may be obtained as soon as possible after the meeting by accessing the SAMHSA Advisory Committees' Web site, http://www.nac.samhsa.gov/DTAB/meetings.aspx, or by contacting Dr. Cook. The transcript for the open meeting will also be available on the SAMHSA Committee Web site within three weeks after the meeting.

Committee Name: Substance Abuse and Mental Health Services Administration's Center for Substance Abuse Prevention, Drug Testing Advisory Board.

Dates/Time/Type: January 31, 2012 from 9 a.m. to 3 p.m. E.S.T.: Open. January 31, 2012 from 3 p.m. to 5 p.m. E.S.T.: Closed. February 1, 2012 from 8:30 a.m. to 1 p.m. E.S.T.: Closed.

Place: Sugarloaf Conference Room, SAMHSA Office Building, 1 Choke Cherry Road, Rockville, Maryland 20857.

Contact: Janine Denis Cook, Ph.D., Designated Federal Official, CSAP Drug Testing Advisory Board, 1 Choke Cherry Road, Room 2-1045, Rockville, Maryland 20857, Telephone: (240) 276-2600, Fax: (240) 276-2610, Email: janine.cook@samhsa.hhs.gov.

Janine Denis Cook,
Designated Federal Official, DTAB, Division of Workplace Programs, Center for Substance Abuse Prevention, Substance Abuse and Mental Health Services Administration.

[FR Doc. 2012-246 Filed 1-10-12; 8:45 am]

BILLING CODE 4162-20-P